ENVIRONMENTAL PROTECTION AGENCY

[EPA-HQ-ORD-2012-0830; FRL-11643-01-ORD]

Availability of the BMD Model Code and BMD Modeling Output Files for the Draft IRIS Toxicological Review of Inorganic Arsenic; Notice of Comment Period

AGENCY: Environmental Protection Agency (EPA).

ACTION: Notice of public comment period

SUMMARY: The Environmental Protection Agency (EPA) is announcing a public comment period on the benchmark dose (BMD) model code and BMD modeling output files associated with the Draft IRIS Toxicological Review of Inorganic Arsenic. The original Federal Register notice associated with the draft IRIS inorganic arsenic assessment was published on October 16, 2023, and closed on December 15, 2023. After reviewing the comments received on the draft assessment, EPA is opening an additional public comment period on the BMD model code and the BMD modeling output files that were not accessible by the public during the original comment period due to a technical issue. For submissions received during this public comment period, EPA will only address comments on the BMD model code and BMD modeling output files, which are available at: https://gaftp.epa.gov/EPADataCommons/ORD/DRAFTiAsToxReview/.

DATES: The 15-day public comment period begins December 29, 2023 and ends January 16, 2024. Comments must be received on or before January 16, 2024.

ADDRESSES: The BMD model code and BMD modeling output files for the draft IRIS Toxicological Review of Inorganic Arsenic are available via the internet on https://gaftp.epa.gov/EPADataCommons/ORD/DRAFTiAsToxReview/ and also accessible through the IRIS website www.epa.gov/iris.

FOR FURTHER INFORMATION CONTACT: For information on the public comment period, contact the ORD Docket at the EPA Headquarters Docket Center; telephone: 202-566-1752; facsimile: 202-566-9744; or email: Docket_ORD@epa.gov.

For technical information related to the BMD model code and BMD modeling output files for the draft IRIS Toxicological Review of Inorganic Arsenic or for issues related accessing the files, contact Ms. Vicki Soto, CPHEA; telephone: 202-564-3077; or email: soto.vicki@epa.gov. The IRIS Program will provide updates through the IRIS website (https://www.epa.gov/iris) and via EPA's IRIS listserv. To register for the IRIS listserv, visit the IRIS website (https://www.epa.gov/iris) or visit https://www.epa.gov/iris/forms/staying-connected-integrated-risk-information-system#connect.

SUPPLEMENTARY INFORMATION: How to Submit Technical Comments to the Docket at https://www.regulations.gov.

Submit your comments, identified by Docket ID No. EPA-HQ-ORD-2012-0830 for the BMD model code and BMD modeling output files for the draft inorganic arsenic IRIS assessment, by one of the following methods:

• www.regulations.gov: Follow the on-line instructions for submitting comments.

• Email: Docket_ORD@epa.gov.

• Fax: 202-566-9744.

• Mail: U.S. Environmental Protection Agency, EPA Docket Center (ORD Docket), Mail .

Code: 28221T, 1200 Pennsylvania Avenue NW, Washington, DC 20460. The phone number is 202-566-1752.

For information on visiting the EPA Docket Center Public Reading Room, visit https://www.epa.gov/dockets.

The telephone number for the Public Reading Room is 202-566-1744. The public can submit comments via www.regulations.gov or email.

Instructions: Direct your comments on the BMD model code and BMD modeling output files to docket number EPA-HQ-ORD-2012-0830 for Inorganic Arsenic IRIS Assessment.

Please ensure that your comments are submitted within the specified comment period. Comments received after the closing date will be marked “late,” and may only be considered if time permits. It is EPA's policy to include all comments it receives in the public docket without change and to make the comments available online at www.regulations.gov, including any personal information provided, unless a comment includes information claimed to be Confidential Business Information (CBI) or other information for which disclosure is restricted by statute. Do not submit information through www.regulations.gov or email that you consider to be CBI or otherwise protected. The www.regulations.gov website is an “anonymous access” system, which means EPA will not know your identity or contact information unless you provide it in the body of your comment. If you send an email comment directly to EPA without going through www.regulations.gov, your email address will be automatically captured and included as part of the comment that is placed in the public docket and made available on the internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at www.epa.gov/epahome/dockets.htm.

Docket: Documents in the docket are listed in the www.regulations.gov index. Although listed in the index, some information is not publicly available, e.g., CBI or other information whose disclosure is restricted by statute. Certain other materials, such as copyrighted material, are publicly available only in hard copy. Publicly available docket materials are available either electronically in www.regulations.gov or as a hard copy at the ORD Docket in the EPA Headquarters Docket Center.

Wayne Cascio,
Director, Center for Public Health & Environmental Assessment.

[FR Doc. 2023-28766 Filed 12-28-23; 8:45 am]

BILLING CODE 6560-50-P